DEPARTMENT OF TRANSPORTATION

Federal Aviation Administration

14 CFR Part 71

[Docket No. FAA-2011-1014; Airspace Docket No. 11-AAL-19]

RIN 2120-AA66

Amendment of VOR Federal Airways V-320 and V-440; Alaska

AGENCY: Federal Aviation Administration (FAA), DOT.

ACTION: Final rule.

SUMMARY: This action amends two VHF Omnidirectional Range (VOR) Federal airways in Alaska, V-320 and V-440, due to the relocation of the Anchorage VOR navigation aid. The FAA is taking this action to ensure the continued safe and efficient management of Instrument Flight Rules (IFR) operations within the National Airspace System.

DATES: Effective date 0901 UTC, February 9, 2012. The Director of the Federal Register approves this incorporation by reference action under 1 CFR part 51, subject to the annual revision of FAA Order 7400.9 and publication of conforming amendments.

FOR FURTHER INFORMATION CONTACT: Colby Abbott, Airspace, Regulation and ATC Procedures Group, Office of Airspace Services, Federal Aviation Administration, 800 Independence Avenue SW., Washington, DC 20591; telephone: (202) 267-8783.

SUPPLEMENTARY INFORMATION:

History

On Monday, November 7, 2011, the FAA published in the Federal Register a notice of proposed rulemaking to amend VOR Federal airways V-320 and V-440 in Alaska, due to the relocation of the Anchorage VOR navigation aid (76 FR 68674). Interested parties were invited to participate in this rulemaking effort by submitting written comments on the proposal to the FAA. No comments were received.

The Rule

This action amends Title 14 Code of Federal Regulations (14 CFR) part 71 by amending Alaskan VOR Federal airways V-320 and V-440. The airway descriptions reflect the Anchorage VOR relocation from Fire Island, AK, to Ted Stevens Anchorage International Airport, Anchorage, AK. Specifically, the descriptions incorporate the new navigation aid location and updated radials used to describe the airway intersections to be used by air traffic control for instrument flight rules aircraft in the vicinity of Anchorage, AK.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, section 106 describes the authority of the FAA Administrator. Subtitle VII, Aviation Programs, describes in more detail the scope of the agency's authority.

This rulemaking is promulgated under the authority described in subtitle VII, part A, subpart I, section 40103. Under that section, the FAA is charged with prescribing regulations to assign the use of the airspace necessary to ensure the safety of aircraft and the efficient use of airspace. This regulation is within the scope of that authority as it amends Federal airways in Alaska.

Alaskan VOR Federal Airways are published in paragraph 6010(b) of FAA Order 7400.9V, dated August 9, 2011, and effective September 15, 2011, which is incorporated by reference in 14 CFR 71.1. The Alaskan VOR Federal Airways listed in this document will be published subsequently in the Order.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9V, Airspace Designations and Reporting Points, dated August 9, 2011, and effective September 15, 2011, is amended as follows:

Paragraph 6010b Alaskan VOR Federal airways.

* * * * *

V-320 [Amended]

From McGrath, AK; INT McGrath 121° and Kenai, AK 350° radials; INT Kenai 350° and Anchorage, AK 291° radials; Anchorage; INT Anchorage 147° and Johnstone Point, AK, 271° radials; to Johnstone Point.

* * * * *

V-440 [Amended]

From Nome, AK; Unalakleet, AK; McGrath, AK; Anchorage, AK; INT Anchorage 147° and Middleton Island, AK 309° radials; Middleton Island; Yakutat, AK; Biorka Island, AK; to Sandspit, BC. The airspace within Canada is excluded.

Issued in Washington, DC, on December 23, 2011.
Gary A. Norek,
Acting Manager, Airspace, Regulation and ATC Procedure Group.

[FR Doc. 2011-33463 Filed 12-29-11; 8:45 am]

BILLING CODE 4910-13-P